DEPARTMENT OF AGRICULTURE

Agricultural Marketing Service

7 CFR Part 66

[Doc. No. AMS-TM-17-0050]

RIN 0581-AD54

National Bioengineered Food Disclosure Standard; Correction

AGENCY: Agricultural Marketing Service, USDA.

ACTION: Proposed rule; correction.

SUMMARY: This document contains corrections to the proposed rule published on May 4, 2018, regarding a new national mandatory bioengineered food disclosure standard. Corrections are made to the notice of proposed rule making's (NPRM) Initial Regulatory Flexibility Analysis to clarify that the proposed rule, if finalized, is not expected to have a significant economic impact on a substantial number of small entities, but that comments are sought on the analysis and that USDA is not certifying that the proposed rule would have no significant adverse impact on a substantial number of small businesses.

DATES: June 21, 2018.

FOR FURTHER INFORMATION CONTACT: Arthur Neal, Deputy Director, Transportation and Marketing Program, AMS, USDA; Email: befooddisclosure@ams.usda.gov; telephone: (202) 690-1300; or Fax: (202) 690-0338.

SUPPLEMENTARY INFORMATION: Pursuant to recent amendments to the Agricultural Marketing Agreement Act of 1946 (7 U.S.C. 1621 et seq.), as amended, the Agricultural Marketing Service (AMS) published a proposed rule regarding establishment of a new national mandatory bioengineered food disclosure standard in the Federal Register on May 4, 2018 (83 FR 19860). On that date, AMS also published a Regulatory Impact Analysis (RIA) describing potential economic impacts of the proposed rule, which included the Regulatory Flexibility Analysis. The RIA tentatively concludes that the proposed rule would not have a significant economic impact on a substantial number of small businesses. However, the Initial Regulatory Flexibility Analysis included in the NPRM used inconsistent language in 83 FR 19881 and 19884. This correction addresses that inconsistency. The summary of the RIA that accompanied 83 FR 19860 will also be revised. The revised RIA will be posted on www.regulations.gov under AMS-TM-17-0050.

Corrections

In FR Doc. 2018-09389, published May 4, 2018 (83 FR 19860), make the following corrections:

1. On page 19881, in column 3, the final sentence of the Introduction paragraph in Section D—Initial Regulatory Flexibility Analysis is corrected to read as follows:

We have tentatively concluded that the proposed rule, if finalized, will not have a significant economic impact on a substantial number of small entities; however, we are seeking comment on this analysis and are not certifying there would be no significant adverse impact on a substantial number of small businesses.

2. On page 19884, in column 1, the Summary paragraph in Section D—Initial Regulatory Flexibility Analysis is corrected to read as follows:

Under the Regulatory Flexibility Act (5 U.S.C. 606(b)), we tentatively conclude that the proposed rules will not have a significant economic impact on a substantial number of small entities. The analysis presented in the accompanying Regulatory Impact Analysis suggests that the cost per entity is not large for firms in any size category. However, we are seeking comment on this analysis and are not certifying there would be no significant adverse impact on a substantial number of small businesses.

Dated: June 14, 2018.
Bruce Summers,
Administrator.

[FR Doc. 2018-13155 Filed 6-19-18; 8:45 am]

BILLING CODE 3410-02-P